DEPARTMENT OF TRANSPORTATION

Pipeline and Hazardous Materials Safety Administration

49 CFR Part 191

[Docket No. PHMSA-2016-0016; Amdt. No. 191-28]

RIN 2137-AF22

Pipeline Safety: Safety of Underground Natural Gas Storage Facilities; Correction

AGENCY: Pipeline and Hazardous Materials Safety Administration (PHMSA), DOT.

ACTION: Correcting amendments.

SUMMARY: The Pipeline and Hazardous Materials Safety Administration (PHMSA) published a final rule in the Federal Register on February 12, 2020, amending PHMSA's regulations establishing minimum safety standards for underground natural gas storage facilities. That document inadvertently removed certain reporting requirements for natural gas pipeline operators. This document corrects the final regulations.

DATES: Effective on July 23, 2020.

FOR FURTHER INFORMATION CONTACT: Ashlin Bollacker, Technical Writer, Office of Pipeline Safety, at 202-366-4203.

SUPPLEMENTARY INFORMATION: On February 12, 2020, PHMSA published a final rule titled: “Safety of Underground Natural Gas Storage Facilities.” (85 FR 8104). The final rule contained an error that inadvertently removed two paragraphs from the current regulations. This document corrects the unintended deletion.

The final rule revised § 191.22 to add new reporting requirements for underground natural gas storage facilities (UNGSF). However, in adding those new reporting requirements for UNGSF facilities, a pair of reporting requirements for natural gas pipeline operators at paragraphs (c)(1)(v) and (c)(1)(vi) was inadvertently removed from § 191.22.

This document amends § 191.22 to reinstate paragraphs (c)(1)(v) and (c)(1)(vi).

List of Subjects in 49 CFR Part 191

Underground natural gas storage facility reporting requirements.

In consideration of the foregoing, PHMSA is amending 49 CFR part 191 as follows:

PART 191—TRANSPORTATION OF NATURAL AND OTHER GAS BY PIPELINE; ANNUAL REPORTS, INCIDENT REPORTS, AND SAFETY-RELATED CONDITION REPORTS

1. The authority citation for part 191 continues to read as follows:

Authority: 30 U.S.C. 185(w)(3), 49 U.S.C. 5121, 60101 et seq., and 49 CFR 1.97.

2. Amend § 191.22 by:

a. Revising paragraphs (c)(1)(iii) and (iv); and

b. Adding paragraphs (c)(1)(v) and (vi).

The revisions and additions read as follows:

§ 191.22 National Registry of Operators.

* * * * *

(c) * * *

(1) * * *

(iii) Construction of a new LNG plant, LNG facility, or UNGSF;

(iv) Maintenance of a UNGSF that involves the plugging or abandonment of a well, or that requires a workover rig and costs $200,000 or more for an individual well, including its wellhead. If 60-days' notice is not feasible due to an emergency, an operator must promptly respond to the emergency and notify PHMSA as soon as practicable;

(v) Reversal of product flow direction when the reversal is expected to last more than 30 days. This notification is not required for pipeline systems already designed for bi-directional flow; or

(vi) A pipeline converted for service under § 192.14 of this chapter, or a change in commodity as reported on the annual report as required by § 191.17.

* * * * *

Issued in Washington, DC, on July 8, 2020, under authority delegated in 49 CFR 1.97.
Howard R. Elliott,
Administrator.

[FR Doc. 2020-15122 Filed 7-22-20; 8:45 am]

BILLING CODE 4910-60-P